DEPARTMENT OF HEALTH AND HUMAN SERVICES

National Institutes of Health

Proposed Collection; 60-Day Comment Request: Federal COVID Response—Audience Feedback To Inform Ongoing Messaging and Strategies for “Combat COVID”

AGENCY: National Institutes of Health, HHS.

ACTION: Notice.

SUMMARY: In compliance with the requirement of the Paperwork Reduction Act of 1995 to provide opportunity for public comment on proposed data collection projects, the National Institutes of Health (NIH), Clinical Center (CC) will publish periodic summaries of proposed projects to be submitted to the Office of Management and Budget (OMB) for review and approval.

DATES: Comments regarding this information collection are best assured of having their full effect if received within 60 days of the date of this publication.

FOR FURTHER INFORMATION CONTACT: To obtain a copy of the data collection plans and instruments, submit comments in writing, or request more information on the proposed project, contact: Ms. Mikia P. Currie, Office of Policy for Extramural Research Administration, 6705 Rockledge Drive, Suite 350, Bethesda, Maryland 20892, or call a non-toll free number (301) 435-0941 or Email your request, including your address to: ProjectClearanceBranch@mail.nih.gov. Formal requests for additional plans and instruments must be requested in writing.

SUPPLEMENTARY INFORMATION: Section 3506(c)(2)(A) of the Paperwork Reduction Act of 1995 requires: written comments and/or suggestions from the public and affected agencies are invited to address one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

Proposed Collection Title: Federal COVID Response—Audience Feedback to Inform Ongoing Messaging and Strategies for “Combat COVID,” OMB #0925-0769, exp.12/31/2021, EXTENSION, National Institutes of Health (NIH).

Need and Use of Information Collection: The purpose of the information collection is to collect routine feedback from the Combat COVID Initiative's two target audiences (the general public and healthcare providers) to identify evolving needs and better disseminate relevant information as it relates to COVID-19 treatment and ACTIV clinical trial resources, specifically. Data collected will be used to inform the development and broad dissemination of Combat COVID resources, including new or enhanced message and material concepts (e.g., social media ads, digital display ads, out-of-home ads), and/or web pages (combatcovid.hhs.gov). Because the COVID-19 treatment landscape continues to evolve, new evidence-based information continues to come to the forefront, and audience needs continue to change, it is critical for the Federal COVID Response (FCR) Team to collect quick audience feedback from the general public (especially from groups who have not historically been well-represented in clinical trials) and healthcare providers to identify these evolving needs. By understanding target audience needs, the FCR team will be able to properly develop and broadly disseminate relevant COVID-19 treatment and ACTIV clinical trial resources.

OMB approval is requested for 1 year. There are no costs to respondents other than their time. The total estimated annualized burden hours are 3,528.

Estimated Annualized Burden Hours
Type of respondent | Number of respondents | Number of responses per respondent | Average time per response (in hours) | Total annual burden hours
Consumer Audience Feedback Team Screener | 120 | 1 | 5/60 | 10
HCP Audience Feedback Team Screener | 40 | 1 | 5/60 | 3
Consumer Audience Feedback Activity | 60 | 8 | 1 | 480
HCP Audience Feedback Activity | 20 | 8 | 1 | 160
Benchmark & Follow-Up Web Surveys—Consumer Audience | 2,000 | 5 | 15/60 | 2,500
Benchmark & Follow-Up Web Survey—HCP Audience | 300 | 5 | 15/60 | 375
Total | 2,540 | 12,300 |  | 3,528

Dated: September 1, 2021.
Lawrence A. Tabak,
Principal Deputy Director, National Institutes of Health.

[FR Doc. 2021-19383 Filed 9-3-21; 8:45 am]

BILLING CODE 4140-01-P